DEPARTMENT OF COMMERCE

International Trade Administration

(A-475-818)

Certain Pasta from Italy: Extension of Time Limits for the Preliminary Results of Eleventh Antidumping Duty Administrative Review

AGENCY: Import Administration, International Trade Administration, Department of Commerce.

FOR FURTHER INFORMATION CONTACT: Christopher Hargett, AD/CVD Operations, Office 3, Import Administration, International Trade Administration, U.S. Department of Commerce, 14th Street and Constitution Ave, NW, Washington, DC 20230; telephone (202) 482-4161

Background

On August 24, 2007, the U.S. Department of Commerce (“Department”) published a notice of initiation of the administrative review of the antidumping duty order on certain pasta from Italy, covering the period July 1, 2006 to June 30, 2007. See Initiation of Antidumping and Countervailing Duty Administrative Reviews and Request for Revocation in Part, 72 FR 48613 (August 24, 2007). The preliminary results of this review are currently due no later than April 1, 2008.

Extension of Time Limit of Preliminary Results

Section 751(a)(3)(A) of the Tariff Act of 1930, as amended (“the Act”), requires the Department to make a preliminary determination within 245 days after the last day of the anniversary month of an order or finding for which a review is requested. Section 751(a)(3)(A) of the Act further states that if it is not practicable to complete the review within the time period specified, the administering authority may extend the 245-day period to issue its preliminary results by up to 120 days.

We determine that completion of the preliminary results of this review within the 245-day period is not practicable for the following reasons. Petitioner¹ timely filed a below-cost allegation for F.Divella SpA and Pasta Zara S.p.A on December 21, 2007.² The Department initiated the below-cost investigation on January 18, 2008.³ The initial responses to the Department's section D questionnaire were received from each of the respondents on February 15, 2008.⁴ Given the timing of the questionnaire responses and the complexity of issues in this case and in accordance with section 751(a)(3)(A) of the Act and 19 CFR 351.213(h)(2), we are extending the time period for issuing the preliminary results of review by 120 days. Therefore, the preliminary results are now due no later than July 30, 2008. The final results continue to be due 120 days after publication of the preliminary results.

¹ Petitioner is New World pasta Company, American Italian Pasta Company and Dakota Growers Pasta Company.

² See letters from Petitioner “Certain Pasta from Italy - Cost Allegation for F.Divella SpA” and “Certain Pasta from Italy - Cost allegation for Pasta Zara S.p.A.,” dated December 21, 2007.

³ See letter from the Department to F.Divella Spa and Pasta Zara “Initiation of Sales Below the Cost of Production Investigation,” dated January 18, 2008.

⁴ See “Pasta from Italy; Divella Section D Response” and “Pasta from Italy; Pasta Zara Section D Response,” dated February 15, 2008.

This notice is issued and published pursuant to sections 751(a) and 777(i) of the Act.

Dated: March 5, 2008.
Stephen J. Claeys,
Deputy Assistant Secretary for Import Administration.

[FR Doc. E8-4921 Filed 3-11-08; 8:45 am]

BILLING CODE 3510-DS-S